DEPARTMENT OF COMMERCE

National Oceanic and Atmospheric Administration

RIN 0648-XG002

Fisheries of the Caribbean, Gulf of Mexico, and South Atlantic; Exempted Fishing Permits

AGENCY: National Marine Fisheries Service (NMFS), National Oceanic and Atmospheric Administration (NOAA), Commerce.

ACTION: Notice of receipt of an application for exempted fishing permit; request for comments.

SUMMARY: NMFS announces the receipt of an application for an exempted fishing permit (EFP) from Salty Bones Fisheries, Inc. If granted, the EFP would authorize the deployment of modified wood and wire spiny lobster traps and non-containment purse traps in the Federal waters of the Gulf of Mexico (Gulf) and South Atlantic. The project would seek to determine the effectiveness of these gear types, as applicable, for attracting and collecting invasive lionfish while avoiding impacts to non-target species, protected species, and habitats.

DATES: Written comments must be received on or before April 2, 2018.

ADDRESSES: You may submit comments on the application, identified by “NOAA-NMFS-2018-0013” by any of the following methods:

• Electronic Submission: Submit all electronic public comments via the Federal e-Rulemaking Portal. Go to www.regulations.gov/#!docketDetail;D=NOAA-NMFS-2018-0013, click the “Comment Now!” icon, complete the required fields, and enter or attach your comments.

• Mail: Kelli O'Donnell, Southeast Regional Office, NMFS, 263 13th Avenue South, St. Petersburg, FL 33701.

• Instructions: Comments sent by any other method, to any other address or individual, or received after the end of the comment period, may not be considered by NMFS. All comments received are a part of the public record and will generally be posted for public viewing on www.regulations.gov without change. All personal identifying information (e.g., name, address), confidential business information, or otherwise sensitive information submitted voluntarily by the sender will be publicly accessible. NMFS will accept anonymous comments (enter “N/A” in the required fields if you wish to remain anonymous).

Electronic copies of the applications may be obtained from the Southeast Regional Office website at http://sero.nmfs.noaa.gov/sustainable_fisheries/gulf_fisheries/LOA_and_EFP/index.html.

FOR FURTHER INFORMATION CONTACT: Kelli O'Donnell, 727-824-5305; email: kelli.odonnell@noaa.gov.

SUPPLEMENTARY INFORMATION: The EFP is requested under the authority of the Magnuson-Stevens Fishery Conservation and Management Act (16 U.S.C 1801 et seq.), and regulations at 50 CFR 600.745(b) concerning exempted fishing.

Lionfish is an invasive marine species that occurs in both the Gulf and South Atlantic. The harvest of lionfish in the Federal waters of the Gulf and South Atlantic is not currently managed by NMFS. The EFP application submitted to NMFS involves the use of prohibited gear types in Federal waters. Federal regulations prohibit the use or possession of a fish trap in Federal waters in the Gulf and South Atlantic (50 CFR 622.9(c)). In Gulf Federal waters, the term “fish trap” refers to traps capable of taking finfish, except for a trap historically used in the directed fishery for crustaceans (that is, blue crab, stone crab, and spiny lobster) (50 CFR 622.2). In South Atlantic Federal waters, the term “fish trap” refers to a trap capable of taking fish, except for a seabass pot, a golden crab trap, or a crustacean trap (that is, a type of trap historically used in the directed fishery for blue crab, stone crab, red crab, jonah crab, or spiny lobster) (50 CFR 622.2). The EFP would exempt these research activities from the regulation prohibiting the use or possession of a fish trap in Federal waters of the Gulf and South Atlantic at 50 CFR 622.9(c), and would allow the applicant to use spiny lobster traps and other traps capable of taking fish to target lionfish.

The applicant seeks an EFP to test the effectiveness of different trap designs in capturing lionfish in the Gulf and South Atlantic while avoiding impacts to non-target species, protected species, and habitats. One of the goals of the project is to determine the performance of traps as part of a lionfish population control program. Information gathered by the EFP could be used to increase efforts to control the spread of the population. The applicant also intends to sell harvested lionfish in partial support of the testing and also to explore the commercial viability of utilizing traps to harvest lionfish.

NMFS is currently analyzing the effects of testing traps to target lionfish on the environment, including on Endangered Species Act (ESA)-listed species and designated critical habitat, and other non-target species and habitat, in the Gulf and South Atlantic regions through a programmatic environmental assessment (PEA). The PEA includes alternatives that incorporate the proposed effort in this submitted EFP application and others that have been submitted, and accounts for additional expected effort associated with potential future EFP requests. NMFS expects to receive additional EFP requests to test the effectiveness of traps at targeting lionfish in the future and may authorize additional trap testing. The PEA will guide NMFS in developing permit conditions to minimize impacts to the environment, including any affected fisheries and ESA-listed species and designated critical habitat. NMFS also is consulting on the effects of authorizing trap testing under EFPs on ESA-listed species and designated critical habitat in accordance with Section 7 of the ESA.

The specific EFP request noticed here is further described and summarized below.

Salty Bones Fisheries, Inc.

Salty Bones Fisheries requests an EFP to deploy spiny lobster traps with a modified funnel and prototype non-containment purse traps developed by NOAA's National Ocean Service at reef sites in the Federal waters of the Gulf and South Atlantic to target lionfish. Two vessels would conduct trap testing trips in the Gulf and one vessel in the South Atlantic. Trap deployment in the Gulf would be off southwest Florida and generally between the latitudes of24° 28′ N to 25°21′ N and between longitudes 83°00′ W to 84°00′ W. In the South Atlantic, trap deployment would generally be off the Florida Keys between latitudes 24°22.7′ N to 24°24′ N and between longitudes 82°07′ W to 82°34′ W. These locations are current spiny lobster fishing grounds and are known areas of lionfish abundance to lobster trap fishers.

As described in the application, the trap designs to be tested would be a wire basket spiny lobster trap with a modified funnel, a wood and wire spiny lobster trap with a modified funnel, and an experimental fish aggregation device based, non-containment purse trap. The two modified spiny lobster trap designs would have biodegradable trap panels and modified funnels of 3 by 6 inches (8 by 15 cm) that are slightly smaller in dimension than the funnel in a regular (non-modified) lobster trap. Current project plans would deploy up to 3,000 total modified spiny lobster traps at one time on the seafloor during the 2-year period of the project. Three vessels would each deploy approximately 500 of each of the two modified spiny lobster traps (1,000 total per vessel per trip) and up to 15 purse traps per trip in the project's first year and up to 40 total per vessel per trip the project's second year. The applicant expects to take up to four trips per vessel each month from April through July, weather permitting. Traps would be deployed via a trawl system with up to 40 traps being part of each trawl. Each trawl would use one buoyed vertical line to the surface. The applicant intends to deploy the purse traps by integrating them into the spiny lobster trawls. If the purse traps are proven functional and effective in catching lionfish with minimal environmental impact in a mixed trap trawl configuration in the first year of the project, then the applicant may also test the practicality of deploying trawls with only the purse trap type in the following year. The depth of trap deployments is expected to be between 150 to 300 ft (46 to 91 m). Trap soak time would range from 3 to 10 days depending on trap type and location. Setting and hauling of the traps is expected to occur during daylight hours. Bait would only be used in the modified spiny lobster traps and would include cowhide and fish heads.

Vessels to be used in the proposed study would be three federally permitted commercial fishing vessels. Vessel crew would be responsible for collecting detailed records during the sampling trips. Data to be collected per trip would include: Gear configuration and fishing effort data (e.g., date and time of deployment and retrieval, latitude, longitude, and water depth of each deployed trawl, bait type used); soak time per area for each trawl; alternative weight and trawl configurations used in different sea states and conditions; trap loss and movement from original set position; protected species interactions; bycatch species, amount, and disposition; and lionfish catch data for each trap type. Any fish species other than lionfish caught in the traps would be released once the traps are onboard the project vessels; only lionfish would be retained as part of the project. Retained lionfish would be sold on return to port.

The applicant has requested the EFP be effective for a 2-year period from the date the EFP is issued.

NMFS finds the application warrants further consideration based on a preliminary review. Possible conditions the agency may impose on the permit, if granted, include but are not limited to, a prohibition of conducting research within marine protected areas, marine sanctuaries, special management zones, or areas where they might interfere with managed fisheries without additional authorization. Additionally, NMFS may require special protections for ESA-listed species and designated critical habitat, and may require particular gear markings. A final decision on issuance of the EFP will depend on NMFS' review of public comments received on the application, consultations with the appropriate fishery management agencies of the affected states, Councils, the U.S. Coast Guard, and a determination that they are consistent with all applicable laws.

Authority: 16 U.S.C 1801 et seq.

Dated: March 12, 2018.
Emily H. Menashes,
Acting Director, Office of Sustainable Fisheries, National Marine Fisheries Service.

[FR Doc. 2018-05335 Filed 3-15-18; 8:45 am]

BILLING CODE 3510-22-P